FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c)(2)(A)), this notice seeks comments concerning the proposed revision of the collection of Claims for National Flood Insurance Program.

SUPPLEMENTARY INFORMATION: The National Flood Insurance Program (NFIP) is authorized by Public Law (P.L.) 90-448 (1968) and expanded by P.L. 93-234 (1973) provides low-cost federally subsidized flood insurance for existing buildings exposed to flood risks. In return communities must enact and administer construction safeguards to ensure that new construction in the flood plain will be built to eliminate or minimize future flood damage. In accordance with P.L. 93-234, the purchase of flood insurance is mandatory when Federal or federally-related financial assistance is being provided for acquisition or construction of buildings located or to be located within FEMA-identified special flood hazard areas of communities which are participating in the program. In addition a proposed rule was published September 23, 1996 to amend the National Flood Insurance regulations by adding coverage under the Standard Flood Insurance Policy for increased cost, up to $15,000 to bring structures into compliance with State or community floodplain management laws or ordinances after flood losses. A final rule, National Flood Insurance Program; Standard Flood Insurance Policy published February 25, 1997, amended the National Flood Insurance Program (NFIP) regulations to add coverage under the standard Flood Insurance Policy to pay for the increase cost to rebuild or alter flood-damaged structures to conform, with State or local flood plain ordinances or laws consistent with the requirements of guidance of the NFIP. The Final rule required the agency to collect additional data which was approved by OMB under OMB control number 3067-0276, Increased Cost of Compliance which will now be merged with this collection of information.

Collection of Information

Title: Claims for National Flood Insurance Program (NFIP).

Type of Information Collection: Revision of a currently approved collection.

OMB Number: 3067-0021.

Form Numbers: FEMA Forms 81-40, 81-41, 81-41A, 81-42, 81-42A, 81-43, 81-44, 81-57, 81-58, 81-59, 81-63, 81-98, and Mobile Home Worksheet.

Abstract: The forms included in this collection of information provide the information that is necessary for the continued proper performance of the Agency's functions related to indemnifying policyholders for flood damages to their properties. The forms are described below:

(1) FEMA Form 81-40, Worksheet-Contents-Personal Property— used by the insured to assess personal property damage. Estimated time per response—2.5 hours.

(2) FEMA 81-41, Worksheet-Building—used by the adjuster to determine the scope of damage to a building. Estimated time per response—2.5 hours.

(3) FEMA Form 81-41A, Worksheet-Building (Continued)— a continuation of FEMA form 81-41. Estimated time per response—1 hour.

(4) FEMA Form 81-42, Proof of Loss— used to establish a settlement on the amount the insured will receive. Estimated time per response—5 minutes.

(5) FEMA Form 81-42A, Increase Cost of Compliance Proof of Loss (ICC) will be used by the adjuster to identify whether or not the insured qualifies for coverage under ICC. Estimated time per response—1 hour.

(6) FEMA Form 81-43, Notice of Loss— used to gather loss information. Estimated time per response—4 minutes.

(7) FEMA Form 81-44, Statement as to Full Cost of Repair or Replacement Cost Coverage, Subject to the Terms and Conditions of the Policy_used by the insured to determine if the structure can be repaired or qualify for replacement cost. Estimated time per response—6 minutes.

(8) FEMA Form 81-57, National Flood Insurance Program Preliminary Report—used to identify the insured and the address of risk. Estimated time per response—4 minutes.

(9) FEMA Form 81-58, National Flood Insurance Program Final Report—used to document and review overall damages to the property, and to provide a breakdown of the claim information. Estimated time per response—4 minutes.

(10) FEMA Form 81-59, National Flood Insurance Program Narrative Report—used to write a narrative report on the loss. Estimated time per response—5 minutes.

(11) FEMA Form 81-63, Cause of Loss and Subrogation Report—used to identify a potential subrogation loss. Estimated time per response—1 hour.

(12) FEMA Form 81-98, Increase Cost of Compliance Adjuster Report will be used by the insured and adjuster to establish a settlement on the amount the insured will receive.

Estimated time per response—2 hours.

Mobile Home Worksheet—to obtain data to specifically identify the manufacturer, year, size, model, and serial number of the mobile home; the individual the mobile home was purchased from; and the repair or salvage value of the mobile home. The claim adjuster also uses the information to determine whether a mobile home will be repaired, replaced, or salvaged. Estimated time per response—30 minutes.

Affected Public: Individuals and households, Business or other for-profit, Not-for-profit institutions, Farms, Federal Government, and State, local or tribal governments.

Estimated Total Annual Burden Hours: 310,536.

Estimated Cost. $38 million.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, FEMA Information Collections Officer, Federal Emergency Management Agency, 500 C Street, SW., Room 316, Washington, DC 20472. Telephone number (202) 646-2625, Fax number (202) 646-3524, or email address: muriel.anderson@fema.gov.

FOR FURTHER INFORMATION CONTACT: Contact Timothy P. Johnson, Federal Insurance Administration, at (202) 646-3418 for additional information. Contact Muriel B. Anderson at (202) 646-2625 for copies of the proposed collection information.

Dated: January 13, 2000.
Mike Bozzelli,
Acting Director, Program Services Division, Operations Support Directorate.

[FR Doc. 00-2106 Filed 1-31-00; 8:45 am]

BILLING CODE 6718-01-P